DEPARTMENT OF HEALTH AND HUMAN SERVICES

Administration for Children and Families

[Program Announcement No. ACF/ACYF/HS 02-04]

Fiscal Year 2002 Discretionary Announcement for Nationwide Competition of Early Head Start; Availability of Funds and Request for Applications

AGENCY: Administration on Children, Youth and Families (ACYF), Administration for Children and Families (ACF), DHHS.

ACTION: Notice of Fiscal Year 2002 Early Head Start availability of financial assistance for nationwide competition and request for applications.

SUMMARY: Early Head Start programs provide early, continuous, intensive and comprehensive child development and family support services on a year-round basis to low-income families. The purpose of the Early Head Start program is to enhance children's physical, social, emotional, and intellectual development; to support parents' efforts to fulfill their parental roles; and to help parents move toward self-sufficiency. The Administration on Children, Youth and Families announces approximately $72 million in financial assistance to be competitively awarded to local public and private non-profit and for-profit entities—including Early Head Start and Head Start grantees—to provide child and family development services for low-income families with children under age three and pregnant women. Faith-based organizations are eligible to apply for these funds to become Early Head Start grantees.

Applicants may apply for one or more of the following categories of expansion:

1. Current Early Head Start grantees, proposing to expand in their currently approved EHS service area ($20 million). (See Priority 1 Evaluation Criteria.)

2. Applicants, including current Early Head Start grantees and, proposing to establish an Early Head Start program in areas currently unserved by Early Head Start (see Attachment A for a listing of currently served areas; any area not listed is eligible for funding in this category) ($42 million). (See Priority 1 Evaluation Criteria.)

3. Applicants proposing to serve children in an Early Head Start program whose families are receiving support from the Child Welfare Services (CWS) system ($10 million). (See Priority 2 Evaluation Criteria.)

Applicants eligible for funding under this category are as follows:

a. Current grantees may include a request for serving CWS children as a second part of their application under either 1 or 2 above or may submit an application only to serve CWS children.

While each applicant should decide on the appropriate mix between CWS children and other children, we would not expect applicants to propose that a large portion of their children be CWS children unless there are compelling reasons for doing so which must be documented in the application.

b. Applicants who are not current EHS providers may apply to serve CWS children only if they are also submitting an expansion proposal under 2 above.

While each applicant should decide on the appropriate mix between CWS children and other children, we would not expect applicants to propose that a large portion of their children be CWS children unless there are compelling reasons for doing so which must be documented in the application.

DATES: The closing date and time for receipt of applications is 4:30 p.m. EDT on May 13, 2002.

Note: Applications should be submitted to: Early Head Start Nationwide Competition, 1901 N. Fort Myer Drive, Suite 301, Arlington, VA 22209. However, prior to preparing and submitting an application, in order to satisfactorily compete under this announcement, it will be necessary for potential applicants to read the full announcement which is available through the addresses listed below.

ADDRESSES: A copy of the program announcement, necessary application forms, and appendices can be obtained by contacting: Early Head Start Nationwide Competition, 1901 North Fort Myer Drive, Suite 301, Arlington, Virginia 22209. The telephone number is 1-800-458-7699; or e-mail to: ehsn@pal-tech.com.

Copies of the program announcement and necessary application forms can also be downloaded from the Head Start Web site at: www.acf.dhhs.gov/programs/hsb

FOR FURTHER INFORMATION CONTACT: Early Head Start Nationwide Competition, 1901 N. Fort Myer Drive, Suite 301, Arlington, VA 22209 or telephone: 1-800-458-7699 or e-mail to: ehsnpal-tech.com.

SUPPLEMENTARY INFORMATION:

Eligible Applicants

Applicants eligible to apply to become an Early Head Start program are local public and private non-profit and for-profit entities. Early Head Start and Head Start grantees are eligible to apply. Faith-based organizations are eligible to apply for funds. Applicants are reminded that eligibility to apply for a grant under this Notice is limited to local agencies, as defined in section 641 (a) and (b) of the Head Start Act.

Project Duration

For new Early Head Start grantees, the competitive awards made through this announcement will be for one-year budget periods and an indefinite project period. Subsequent year budget awards will be made non-competitively, subject to availability of funds and the continued satisfactory performance of the applicant. Successful applicants which are current Early Head Start grantees will be funded in one of two ways. Those Early Head Start grantees that currently have indefinite project periods will continue to be funded as indefinite project period grants. However, those Early Head Start grantees that have finite project periods will be given supplements to their current, time limited grant. A grantee, for example, currently funded for $200,000 with a project period ending September 30, 2003 that is awarded another $100,000 through this announcement would then be funded as a $300,000 Early Head Start grantee with a project period that still ends on September 30, 2003. This would be true regardless of whether the new funds are to expand services within the grantee's current service area or to expand into another currently unserved area. Prior to the end of an Early Head Start grantee's current project period (i.e., September 30, 2003 in the above example), ACF will announce a competition for those areas served by each EHS grantee whose project period is nearing an end. In such a competition, current EHS grantees in good standing, who submit acceptable applications, will be given priority in funding decisions.

Early Head Start Child Welfare Services Initiative (See Priority 2 Evaluation Criteria)

The Head Start Bureau is establishing a new initiative to promote and expand partnerships between local EHS programs and local child welfare services (CWS) agencies. This initiative will enhance and expand services for children and their families who are part of the child welfare service system and provide additional and more intensive services in local communities for this population. The Head Start Bureau is setting aside $10 million to fund this initiative and plans to serve approximately 1,000 children. Both new applicants and existing EHS grantees may apply for these funds. See below for the Priority 2 Evaluation Criteria for the EHSCWS Initiative. For additional information about the Initiative, see the full Program Announcement for this competition which is available from the address listed above.

Federal Share of Project Costs

The Federal share will not be more than 80 percent of the total approved costs of the project except if a waiver is granted under the authority cited in section 640(b) of the Head Start Act.

Matching Requirements

Grantees that operate Early Head Start programs must, in most instances, provide a non-Federal contribution of at least 20 percent of the total approved costs of the project.

Available Funds

See the Program Announcement for the list of the approximate amount of funds available for States. (The Program Announcement is available from the address listed above.)

Anticipated Number of Projects to be Funded

It is estimated that there will be 100-125 awards.

Statutory Authority

The Head Start Act, as amended, 42 U.S.C. 9831 et seq.

Priority 1 Evaluation Criteria

All new applicants and current grantees proposing to expand services in their current service area or provide services in a new service area should address the criteria for Priority 1 below. Competing applications for financial assistance will be reviewed and evaluated on the six criteria which are summarized below. The point values following each criterion indicate the numerical weight each criterion will be accorded in the review process.

Criterion 1: Objectives and Need for Assistance (15 Points)

The extent to which, based on community assessment information, the applicant identifies any relevant physical, economic (e.g., poverty in the community), social, financial, institutional, or other issues which demonstrate a need for the Early Head Start program.

The extent to which the applicant lists relevant program objectives that adequately address the strengths and needs of the community.

The extent to which the applicant describes the population to be served by the project and explains why this population is most in need of the services to be provided by the program.

The extent to which the applicant gives a precise location and rationale for the project site(s) and area(s) to be served by the proposed project. If the applicant is a current grantee planning to expand its program it needs to demonstrate that the geographic area is currently underserved or, where applicable, unserved by Early Head Start Programs. If the applicant is new, it needs to demonstrate that the proposed service area is currently unserved by Early Head Start programs.

Criterion 2: Results or Benefits Expected (10 Points)

The extent to which the applicant identifies the results and benefits to be derived from the project and links these to the stated objectives.

The extent to which the applicant describes the kind of data to be collected and how they will be utilized to measure progress towards the stated results or benefits.

Criterion 3: Approach (25 Points)

The extent to which the applicant demonstrates a thorough knowledge and understanding of the Head Start Program Performance Standards.

The extent to which the applicant explains why the approach chosen is effective in light of the needs, objectives, results and benefits described above.

The extent to which the approach is grounded in recognized standards and/or guidelines for high quality service provision or is defensible from a current research or best practices standpoint.

Criterion 4: Staff and Position Data and Organization Profiles (15 Points)

The extent to which the proposed program director, proposed key project staff, the organization's experience, including experience in providing early, continuous, and comprehensive child and family development services, and the organization's history with the community demonstrate the ability to effectively and efficiently administer a project of this size, complexity and scope.

The extent to which the applicant's management plan demonstrates sufficient management capacity to implement a high quality Early Head Start program.

The extent to which the organization demonstrates an ability to carry out continuous improvement activities.

Criterion 5: Third Party Agreements/Collaboration (15 Points)

The extent to which the applicant presents documentation of efforts (letters of commitment, interagency agreements, etc.) to establish and maintain ongoing collaborative relationships with community partners.

The extent and thoroughness of approaches to combining Early Head Start resources and capabilities with those of other local child care agencies and providers to provide high quality child care services to infants and toddlers which meet the Head Start Program Performance Standards.

Criterion 6: Budget and Budget Justification (20 Points)

The extent to which the program's costs are reasonable in view of the planning and activities to be carried out and the anticipated outcomes.

The extent to which the program has succeeded in garnering cash or in-kind resources, in excess of the required Federal match, from local, State, other Federal or private funding sources. The extent to which costs for facilities are reasonable and cost effective.

The extent to which the salaries and fringe benefits reflect the level of compensation appropriate for the responsibilities of staff.

The extent to which assurances are provided that the applicant can and will contribute the non-Federal share of the total project cost.

Priority 2 Evaluation Criteria

All applicants (current grantees and new applicants) applying to serve children under the EHS Child Welfare Services Initiative discussed in detail in the full program announcement should address the following six evaluation criteria separately in their application. Competing applications for financial assistance will be reviewed and evaluated on the six criteria. The point values following each criterion indicate the numerical weight each criterion will be accorded in the review process.

Criterion 1: Objectives and Need for Assistance (15 Points)

The extent to which the applicant identifies the need and objectives for services to children and their families who are in the child welfare system, how many children and families will be served, and provide a description of the children and families to be served through the EHSCWS Initiative. This could include children in the child welfare system who are living with their parents or other family members, those in foster care settings, children whose parents are incarcerated or in substance abuse recovery programs, and/or other children birth to three who are within the child welfare system. The children the applicant proposes to serve must also meet EHS eligibility requirements, and can receive EHS services until the child is three years of age, even if the CWS services end.

Criterion 2: Results or Benefits Expected (10 Points)

The extent to which the applicant identifies and describes the results and benefits to be derived from the EHSCWS Initiative and link these to the stated objectives.

The extent to which the applicant describes the kind of data to be collected and how they will be utilized to measure progress towards the stated results or benefits.

Criterion 3: Approach (25 Points)

The extent to which the applicant describes the Early Head Start Child Welfare Services (EHSCWS) collaboration design and the approach to providing services to EHSCWS children through this Initiative, and outlines a plan of action for implementing those services, including the scope and detail of how the proposed work will be accomplished. This will include information about recruitment, what each partner will be responsible for in the delivery of services, how both the Head Start and the applicable Child Welfare Services regulations will be met, and what kind of shared communication system will be in place between the partners that will ensure quality and timely delivery of services

Criterion 4: Staff and Position Data and Organization Profiles (15 Points)

The extent to which the applicant describes the staffing plan for the EHSCWS Initiative, including how the partners will share staff, supervise staff, and provide training. They will indicate other areas of resource sharing, such as space and the possible co-location of staff.

Criterion 5: Third Party Agreements/Collaboration (15 Points)

The extent to which the applicant includes a written collaboration agreement between the EHS and local CWS agency that specifically outlines the roles and responsibilities of each partner and how the EHSCWS Initiative will be carried out.

Criterion 6: Budget and Budget Justification (20 Points)

The extent to which the applicant submits a reasonable budget and justification that supports the activities proposed for the partnership, and that is appropriate in the carrying out of the EHSCWS Initiative. Grantees must budget for two meetings in Washington, DC, during the first year of funding. Project directors and evaluators will meet approximately three months after funding for approximately two days. In years two and three, grantees will be expected to send both their project directors and evaluators to one meeting in Washington, DC each year.

Required Notification of the State Single Point of Contact

This program is covered under Executive Order 12372, “Intergovernmental Review of Federal Programs,” and 45 CFR part 100, “Intergovernmental Review of Department of Health and Human Services Programs and Activities.” Under the Order, States may design their own processes for reviewing and commenting on proposed Federal assistance under covered programs.

All States and territories except Alabama, Alaska, Colorado, Connecticut, Hawaii, Idaho, Kansas, Louisiana, Massachusetts, Minnesota, Montana, Nebraska, New Jersey, New York, Ohio, Oklahoma, Oregon, Pennsylvania, South Dakota, Tennessee, Vermont, Virginia, Washington, American Samoa, and Palau have elected to participate in the Executive Order process and have established Single Points of Contact (SPOCs). Applicants from these jurisdictions need not take action regarding Executive Order 12372.

Applications for projects to be administered by Federally recognized Indian Tribes are also exempt from the requirements of Executive Order 12372. Otherwise, applicants should contact their SPOC as soon as possible to alert them to the prospective application and to receive any necessary instructions. Applicants must submit any required material to the SPOC as early as possible so that the program office can obtain and review SPOC comments as part of the award process. It is imperative that the applicant submit all required materials, if any, to the SPOC and indicate the date of this submittal (or date of contact if no submittal is required) on the Standard Form 424, item 16a.

Under 45 CFR 100.8(a)(2), a SPOC has 60 days from the application deadline to comment on proposed new or competing continuation awards.

SPOCs are encouraged to eliminate the submission of routine endorsements as official recommendations.

Additionally, SPOCs are requested to clearly differentiate between mere advisory comments and those official State process recommendations which may trigger the “accommodate or explain” rule.

When comments are submitted directly to the ACF, they should be addressed to: William Wilson, Head Start Bureau, Grants Officer, 330 C Street SW., Room 2220, Washington, DC 20447.

Attn: Early Head Start Nationwide Competition/Expansion

A list of the Single Points of Contact for each State and Territory can be found on the following Web site: http://www.whitehouse.gov/omb/grants/spoc.html

(Catalog of Federal Domestic Assistance Program Number 93.600, Project Head Start)
Dated: March 7, 2002.
Joan E. Ohl,
Commissioner, Administration on Children, Youth and Families.

Appendix A

Service Areas for Current Early Head Start Grantees as of FY 2002
State and county | Service area (local community)
Alabama:
Blount | The communities of Allgood, Locust Fork and all areas north of those communities.
Lawrence | Entire County.
Morgan | Entire County.
Jefferson | Birmingham, Bessemer, Tarrant City, Centerpoint, Adamsville, Grayville, Brookville, Sayre, Roebuck, Ensley, Forrestdale, Gardendale, and other small unincorporated areas.
| Referrals from the county welfare agency for teen mothers and mothers with chemical addictions and at risk of child abuse.
St. Claire | Entire County.
Walker | Jasper.
Elmore | Bradford.
Chilton | Entire County.
Autauga | Autaugaville.
Lee | Entire County.
Russell | Entire County except Phenix City.
Tuscaloosa | Entire County.
Montgomery | Entire County.
Calhoun | Anniston.
Houston | Entire County.
Alaska:
Lower Yukon | Villages of Pilot Station and St. Mary's.
Kuskokwin | Villages of Akiak and Nunapitchuk.
Anchorage | Municipality of Anchorage.
Fairbanks North Star | Entire Borough.
Arizona:
Apache | Concho, Springerville, St. Johns.
Coconino | Grand Canyon, Flagstaff, Page, Williams.
Yavapai | Ashfork/Seligman, Black Canyon City, Camp Verde, Sedona, Prescott Valley, Prescott, Humboldt/Dewey/Mayer, Cottonwood, Chino Valley, Clarkdale.
Navajo | Holbrook, Pinetop-Lakeside, Show Low, Snowflake, Winslow.
Maricopa | City of Phoenix: an area bounded by Camelback Road on the north; Elliot Road on the south; 40th Street on the east; and 43rd Avenue on the west.
| City of Avindale: an area bounded on the north by Van Buren; on the east by Dysart; on the south by Litchfield Road; and on the west by Lower Buckeye Road.
| El Mirage: an area bounded on the north by Bell Road; on the east by 107th Avenue; on the west by 120th Avenue; and on the south by Northern Avenue.
| South Central Phoenix: Baseline on the south; north to Van Buren; 35th Avenue on the west; and east to 40th Street.
Pima | Entire County.
Graham | Entire County.
Santa Cruz | Entire County.
Conchise | Entire County.
Greenlee | Entire County.
Pinal | Entire County.
Gila | Entire County.
Navajo Nation (also see CO, NM, and UT) | Navajo Reservation. Navajo School Board.
Mohave (also see Washington County in UT) | Colorado City.
Arkansas:
Arkansas | Entire County.
Logan | Entire County.
Lonoke | Entire County.
Conway | Entire County.
Franklin | Entire County.
Johnson | Entire County.
Yell | Entire County.
Polk | Entire County.
Pope | Entire County.
Calhoun | City of Hampton.
Ouachita | City of Bearden.
Union | City of Fairview.
Clay | Cities of Rector, Piggott, and Corning.
Lawrence | Entire County.
Randolph | Entire County.
Newton | Entire County.
Mississippi | Entire County.
Pulaski | (1) Townships of College Station, Sweet Homes, Higgins, and Wrightsville to Oak Street.
| (2) In the City of Little Rock: the township of Granite Mountain; and in east Little Rock: east of Main Street to include West Broadway north and south; Interstate 30 South, Scott Hamilton Rd., Baseline Rd., and Geyer Springs Road.
| Within the City of Little Rock: north of Roosevelt Road; west of Main Street; east of University Avenue; and south of I-630.
Sebastian | All of Wards One and Two on the north side of Fort Smith; joined and bordered by the Arkansas River on the north, east and west; ending to the south at Rogers Avenue, Dodson Avenue, and Euper Lane.
Washington | Entire County.
California:
Alameda | Albany, Berkeley, Emeryville.
| San Leandro, Castro Valley, Union City, Fremont, San Lorenzo, Hayward Livermore, Dublin and Pleasanton (Cherryland), and Newark.
| West Oakland, San Antonio, Fruitvale, Central East Oakland and Elmhurst.
Calaveras | San Andreas, Valley Springs and Angels Camp.
Colusa | Colusa, Grimes, Princeton, Williams, Arbuckle, Maxwell, Meridian.
Contra Costa | Concord, Pleasant Hill, Antioch, Brentwood, Oakley, Richmond, San Pablo, Pittsburg.
Del Norte | The cities of Crescent City, Fort Dick, Smith River, Orleans, Orick, Willow Creek, McKinleyville.
Humboldt | Eureka, Arcata, South Bay, Fortuna, Ferndale, Rio Dell, Rohnerville, Bridgeville, Miranda, Alderpoint, Redway.
| Hoopa Valley Indian Reservation.
El Dorado | Entire County.
Fresno | West Fresno, Southeast Fresno, and Fresno Unified School District.
Kern | East Bakersfield, Arvin/Lamont, Delano, Shafter, and Southwest Bakersfield.
| Metro Bakersfield.
Kings | Corcoran and Hanford.
Hanford | Avenal and Lemoore.
Lake | Lake, Mendocino.
Modoc | Entire County.
Siskyu | Tulelake School District.
Los Angeles | City of Los Angeles: Areas within the following boundaries:
| (1) 3rd and Temple—on the north, to Hoover, to Vermont, to 7th, to Wilshire, to Hoover and Central on the south border in downtown L.A.
| (2) Baldwin Park USD—north: Oak Ave. and Arrow Hwy; south: Farnell; east: Azusa Canyon, La Serna, Willow, Ardilla, Mayland; west: San Gabriel River.
| (3) City of South El Monte—north: Garvey Ave, Fern St., Elliot Ave., and Schmidt Rd.; south: Whittier Narrows Recreation Area; east: San Gabriel River, Fruitvale Ave.
| (4) El Monte City border; west to Whittier Narrows Recreation Area and Rio Hondo River; north: Century Blvd., 104th Street, 103rd Street; south: Anderson Fwy (105); east: Prairie Ave.; west: La Cienega Blvd.
| (5) Gardena—north: El Segundo Blvd.; south: 182 St., Artesia Blvd. and Redondo Beach Blvd; east: Vermont Ave; west: Crenshaw Blvd. and Gramercy Blvd.
| (6) North: Century Blvd., 104th Street, 103rd Street; south: Anderson Freeway (105); east: Prairie Ave.; and west: Crenshaw and Gramercy Blvds.
| (7) Plaza De La Raza—north: A.T.& S. F. Railroad and Washington Blvd.; south: Lakeland Rd. and Imperial Hwy.; east: Shoemaker, Carmenita and Mulberry; west: San Gabriel River (605 Freeway).
| (8) Plaza De La Raza—north: Imperial Hwy; south: Excelsior Dr., Alondra Blvd. and Santa Ana Frwy; east: Valley View Ave., Marquardt Ave.; west: Shoemaker Ave., Bloomfield Ave., Best Ave. and Norwalk City border.
| (9) Pomona USD—north: Foothill Blvd., Lewis Ave., Oak Dr., Parkwood Ln., Harrison Ave., Arrow Ave. and American Ave.; south: Pomona Frwy (60) and Riverside Dr.; east: San Bernardino County Line, Mountain Ave., Carnegie Ave., and Towne Ave.; west: Fulton Rd., L.A. County Fairplex, Fairplex Dr., San Bernardino Frwy (10), and Campus Dr.
| (10) North Hollywood—north: Saticoy St.; south: Universal City Border, Acama St. and Riverside Dr.; east: Clybourn Ave., Burbank Airport, and Burbank City border; west: Tujunga Ave., Fulton Ave., Coldwater Canyon Ave., and Hollywood Frwy. (170).
| (11) Harbor City—north: Sepulveda Blvd., Lomita Blvd.; south: Palo Verdes Dr., Anaheim St.; east: Harbor Frwy (110) and Normandie Ave.; west: Western Ave., City of Torrance border, and City of Lomita border.
| (12) North Hollywood, Sunland and Harbor City, Wilmington, San Perdo, Lomita, Carson, portions of Torrence and Ranchos PalasVerde, Downey, Southcentral, LA, Westwood, Pomano, Echo Park area, Pico Rivera, Antelope Valley (Lancaster, Palmdale). Bell, Bell Gardens, and Cudahy.
| (13) West: Highland Avenue; north: 6th Street; east: Hoover Street; south: 9th Street (turns into James M. Wood Blvd.).
| North: 6th Street; East: Hoover; West: Highland Avenue; South: 9th Street.
| An area bounded on the north by 3rd Street; on the east by Central Avenue; on the south by Vernon Avenue; and on the west by Western Boulevard.
| Greater Hollywood area: City of West Hollywood and Mid-Wilshire District.
| An area bounded on the north by Wilshire Blvd to Sepulveda to Olymouc; on the east by Beverly Drive to Pico to Durango to La Cienega to Jefferson to Sepulveda to Centinela to Praire; on the south by Imperial Highway to Sepulveda to Lincoln to Admiralty Way to Washington; on the west by the Pacific Ocean Cities of Santa Monica, West Los Angeles, Culver City, Inglewood, Lennox, Westchester, Venice, Palms and Mar Vista.
| City of Long Beach, central area.
| South Central LA: an area bounded on the north by Slauson Avenue; on the south by Century Blvd.; on the east by Avalon Blvd.; and on the west by Van Ness Avenue.
| The communities of West Adams, Jefferson Park, and University Park.
| An area bounded by 9th Street on the north; Martin Luther King Blvd. on the south; San Perdro Street on the east; and Crenshaw on the west.
| Compton.
| Cities of Pasadena, Altadena and Glendale.
| City of Hawaiian Gardens.
Orange County | Entire County.
San Bernardino | City of Upland.
| Cities of San Bernardino and Colton.
Marin | San Rafael, Novato, Corte Madera, Greenbrae, San Anselmo.
Mendocino | Ukiah, Willits.
Nevada | North San Juan, Nevada City, Truckee.
Placer | Lincoln, Rocklin, Kings Beach, Foresthill.
Sacramento | (1) The City of Sacramento: the communities of Del Paso Heights, North Sacramento/Gardenland, Midtown, Oak Park, South Sacramento, Meadowview, Natomas, Land Park and Arden/Howe.
| (2) Cities of Citrus Heights and Galt.
| (3) Towns of Rio Linda/Everta, North Highlands, Foothill Farms, Orangevale, Carmichael, Fair Oaks, Rancho Cordova, South Sacramento, Franklin/Laguna, Elk Grove, and Antelope.
| (4) Woodland, Winters, Davis and West Sacramento.
San Diego | Carlsbad, Encinitas, Del Mar, Solana Beach, Escondido, San Diego, Poway, Coronado, La Mesa, El Cajon, Lemon Grove, Santee, Ramona, Palomar Julain, Anza Borrego, Lakeside, Spring Valley, Jamul, Harbinson Crest, Laguna Pine Valley, Mountain Empire, Alpine, Chula Vista, National City, Imperial Beach, Nestor.
| Oceanside, Vista, San Marcos, Fallbrook, Valley Center, Rincon, San Pasqual, Pauma Valley.
| Campo Reservation, Rincon Reservation, San Pasqual Reservation, Pauma Reservation, and Pala Reservation.
Riverside | Soboba Reservation, Morongo Reservation, and San Jacinto.
| Cities of Banning and Beaumont.
| All cities in Riverside County with the exception of Banning, Beaumont and Morongo Band Indian Reservation.
San Francisco | Chinatown, Tenderloin, Visitation Valley; and parts of Northbeach, Civic Center, and Bayview Hunters Point.
San Joaquin | Entire County.
San Mateo | Half Moon Bay, East Palo Alto, Menlo Park, South San Francisco, Daly City, San Bruno and San Mateo.
Santa Barbara | Santa Maria, Lompoc, Santa Barbara and Summerland.
Santa Clara | Northwest and central San Jose.
Santa Cruz | Watsonville and Santa Cruz.
Shasta | Entire County.
Siskyu | Community of Weed.
Trinity | Cities of Weaverville and Hayfork.
Stanislaus | Westside of county: areas of Westley and Patterson.
Sutter | Entire County.
Yuba | Entire County.
Tulare | Entire County.
Ventura | Oxnard, Hueneme, Santa Paula, Fillmore and Piru.
Yolo | Entire County.
Sonoma | Sebastopol, Petaluma, Guernville, Sonoma, Rohnert Park, Windsor, and Santa Rosa.
San Luis Obispo | Entire County.
San Benito | Entire County.
Monterey | Chular, Greenfield, King City, San Lucas, San Ardo, Bradley, Gonzales.
| Seaside, Marina, East Salinas, Pajaro, Castroville, Prunedale, Soledad, Speckles, Monterey, Boronda.
Colorado:
Adams | City of Aurora within Adams County.
Arapahoe | City of Aurora within Arapahoe County.
Crowley | Entire County.
Otero | Entire County.
Denver | An area bounded on the east by Colorado Boulevard; on the north by I-70; on the west by Sheridan Boulevard; and on the south by Hampden Avenue.
| Neighborhoods of East Colfax, Northeast Park Hill, Elyrie Swansea, Clayton, Cole, Five Points, Whittier, and Auraria Lincoln Park.
| Northwest Denver: an area bordered by Sheridan Blvd. on the west; I-70 on the north; I-25 on the east; and Mississippi Avenue on the south.
Eagle | Entire County.
El Paso | Entire County.
Fremont | Entire County.
Larimer | Pourde School District boundary that includes the cities of Fort Collins, LaPorte, Timnath and Wellington, and the communities of Wellington, La Porte, Loreland and surrounding areas.
La Plata | Within the boundaries of the Southern Ute Reservation and the Ignacio School District.
| Entire County, with the exception of the area served by Southern Ute Nation.
Navajo Nation (also see AZ, NM, and UT) | Navajo Reservation, Navajo School Board.
Connecticut:
Fairfield | City of Bridgeport: neighborhoods of The Hollow, West End, South End, North End, East End, and East Side.
| City of Stamford.
Hartford | City of Manchester.
Litchfield | Towns of Torrington, Winston, Canaan, and New Milford.
Middlesex | Towns of Middletown, Essex, Portland, Clinton, Westbrook, East Hampton and Deep River.
New Haven | City of Waterbury.
| City of New Haven.
Windham | Towns of Brooklyn, Danielson and Willimantic.
Tolland | City of Vernon.
Delaware:
Kent | Entire County.
New Castle | Entire County.
Sussex | Georgetown.
Florida:
Alachua | Communities of Majestic Oaks, Sugarfoot Oaks, Tower Oaks, Cedar Ridge, Clayton Estates, Magnolia Plantation.
Bay | Panama City Beach.
Franklin | Apalachicola.
Jackson | Entire County.
Baker | Entire County.
Brevard | Entire County.
Broward | Pompano Beach, Hollywood.
Charlotte | Punta Gorda, Port Charlotte.
Collier | Entire County.
DeSoto | Entire County.
Glades | Entire County.
Hardee | Entire County.
Hendry | Entire County.
Highlands | Entire County.
Columbia | Lake City.
Dade | City of Homestead and towns of Brownsville, Scott Carver, Liberty City, Winwood, Goulds, Leisure City, Carol City and Opalocka.
Gadsden | Entire County.
Gulf | Wewahitchka, Port St. Joe.
Jefferson | Entire County.
Madison | Madison, Greenville.
Lake | Clermont, Eustis, Leesburg, Mount Dora, Montclair Village, Groveland.
Lee | Entire County.
Marion | Entire County.
Citrus | Entire County.
Martin | Within Hobe Sound, the communities of Banner Lake and Gomez; within Port Salerno, the communities of Jack Avenue, and New Monrovia; and within Stuart, the community of Golden Gate.
Okaloosa | Crestview and 20 mile radius.
Palm Beach | Pahokee, South Bay and Belle Glade—western region of county, West Palm Beach Hispanic Community, West Palm Beach, North-South West Palm Beach, South Bay, Riviera Beach, Lake Worth, Boynton Beach, Delray Beach.
Sarasota | Sarasota, Cities of Newton, Venice and North Port.
Hillsborough | Entire County.
St. Lucie | Entire County.
Santa Rosa | Entire County.
Dixie | Cross City.
Gilchrist | Trenton.
Levy | Chiefland, Yankeetown, Williston, Bronson.
Volusia | Cities of Daytona Beach and Pierson.
Manatee | Palmetto and East Bradenton.
Pinellas | Entire County.
Georgia:
Chatham | Savannah.
Catoosa | Entire County.
Chattooga | Entire County.
Dade | Entire County.
Walker | Entire County.
Whitfield | Dalton.
| Entire County, except south of Tilton and north of Varnell.
Murray | Entire County, except north of Eton and south to North Georgia Speedway.
Dougherty | Albany.
Emanuel | Swainsboro, Twin City, Summertown, Adrian, Oak Park, Lexsy, Garfield, Stillmore.
Fulton | East Point, Alpharetta, Roswell, Sandy Springs.
| Downtown Atlanta, Reynoldstown and Bankhead.
Clayton | Jonesboro.
Cobb | Marietta.
Douglas | Douglasville.
Gwinnett | Lawrenceville.
Dekalb | Chamblee.
| South Dekalb bounded by Covinton Highway, Brown's Mill Road and Bouldercrest Road.
Hall | Entire County.
White | Entire County.
Forsyth | Entire County.
Hart | Entire County.
Sumter | Americus.
Carroll | Entire County.
Troup | Entire County.
Coweta | Entire County.
Clarke | Athens.
Greene | Entire County.
Morgan | Entire County.
Hawaii:
Hawaii | South Kona, North Kona, South Kahala, North Kahala, Ka'u.
Maui | Lanai, Makawao/Upcountry, Hana/East Maui, Lahaina/West Maui.
Oahu | (1) Kalhili and Waipahuto Hawaii Kai.
| (2) Honolulu vicinity defined by Hawaii Kai (Koolauloa): Kaaawa, Hau'ula, Laie, Kahuku, Pupukea (North Shore), Sunset, and Kahana Valley.
| Waianae Coast (Leeward Oahu); Waimanalo area (Winward Oahu); and Makalapa area (Central Oahu and Honolulu).
Idaho:
Bonner | Community of Sand Point.
Kootenai | Cities of Coeur d'Alene, Post Falls and surrounding areas.
Nez Perce (also see Asotin County in the State of Washington | Nez Perce County, Idaho, except Nez Perce Reservation. Nez Perce Reservation.
Lewis | Nez Perce Reservation.
Clearwater | Nez Perce Reservation.
Ada | Entire County.
Elmore | Entire County.
Payette | City of Payette.
Canyon | Cities of Caldwell and Nampa.
Benewah | Couer d'Alene Reservation.
Kootenai | Couer d'Alene Reservation.
Franklin (also see Box Elder and Cache Counties, Utah) | Entire County.
Illinois:
Champaign | Entire County.
Clinton | Entire County.
Washington | Entire County.
Cook County | South Chicago, South Deering, South Lawndale, and Lower West Side communities.
| Near South, Armour Square.
| An area of New City bounded by Damen Ave. on the west; Racine Ave. on the east; Garfield Blvd. on the south; 49th Pl. on the north; and West Englewood and Englewood communities.
| Communities of West Humboldt Park and New City with the exception of an area bounded by Damen Ave. on the west; Racine Ave. on the east; Garfield Blvd. on the south; 49th Pl. on the north.
| Communities of Cicero/Berwyn, Maywood, Bellwood, Robbins, and Hoffman Estates/Schaumburg.
| Uptown community.
| Rogers Park and West Ridge communities.
| Evanston Township.
| Communities of Grand Boulevard, Washington Park, and Kenwood.
| Communities of Oakland, Albany, Park, North Lawndale, Gage Park, Fuller Park, Near West Side, Roseland, West Town, Austin, Logan Square, West Pullman, Chatham, Woodlawn, Washington Heights, Near North Side, Garfield Park, and Douglas.
Edwards | Entire County.
Saline | Entire County.
Gallatin | Entire County.
Hamilton | Entire County.
Wabash | Entire County.
Wayne | Entire County.
White | Entire County.
Kane | Towns of Elgin, Aurora, and Carpentersville.
Sangamon | Entire County.
St. Clair | District 1: East St. Louis; District 3: Cahokia; Centreville.
Peoria | City of Peoria.
Madison | Towns of Alton, Granite City, Pontoon Beach, Venice, Collinsville and East Alton.
Will | Town of Joliet.
Williamson | Entire County.
Franklin | Entire County.
DuPage | Towns of Bensenville and surrounding areas, Wheaton, West Chicago, Villa Park, and Lombard.
Lake | Town of Waukegan.
Hancock | Entire County.
McDonough | Entire County.
Pike | Entire County.
Alexander | Entire County.
Hardin | Entire County.
Johnson | Entire County.
Massac | Entire County.
Pope | Entire County.
Pulaski | Entire County.
Union | Entire County.
Indiana:
Blackford | Entire County.
Grant | Entire County.
Clay | Entire County.
Owen | Entire County.
Putnam | Entire County.
DeKalb | Entire County.
Howard | Entire County.
Miami | Entire County.
Lawrence | Entire County.
Martin | Entire County.
Orange | Entire County.
Washington | Entire County.
Madison | Entire County.
Marshall | Entire County.
Starke | Entire County.
Marion | Pike, Washington, Lawrence, Wayne, Center, and Warren Townships.
Tippecanoe | Entire County.
Vanderburg | Entire County.
Posey | Entire County.
Vigo | Entire County.
Knox | Entire County.
Sullivan | Entire County.
Kosciusko | Entire County.
Benton | Entire County.
Boone | Entire County.
Fountain | Entire County.
Montgomery | Entire County.
Parke | Entire County.
Vermillion | Entire County.
Warren | Entire County.
Iowa:
Allamakee | Entire County.
Clayton | Entire County.
Carroll | Entire County.
Dallas | Entire County.
Greene | Entire County.
Guthrie | Entire County.
Blackhawk | City of Waterloo.
Cherokee | Entire County.
Plymouth | Entire County.
Clarke | Entire County.
Decatur | Entire County.
Clay | Entire County.
Des Moines | Entire County.
Henry | Entire County.
Lee | Entire County.
Louisa | Entire County.
Hamilton | Entire County.
Humboldt | Entire County.
Webster | Entire County.
Wright | Entire County.
Linn | Entire County.
Polk | An area bounded on the west by County Line from Raccoon River to 9400 N.; on the north by 9400 N to NW 58th to NW 110th Place to NE 22nd Street to NE 118th Street; on the east by NE 29th to I-80 to NE 120th Street to East University to NE 64th Street to SE 6th to SE 60th to the Des Moines River to I-65 to 80th SW; and on the south by 80th SW/County Line from Des Moines River to 9800 W.
Scott | City of Davenport: an area bounded on the west by the west side of I-280 on the west edge of Davenport continuing from the Mississippi River north to the north side of I-80 on the north edge of Davenport; on the north, from a point where I-280 meets I-80 continuing east to the east side of I-74 on the east edge of Davenport; on the east, from the north starting point of I-74 where it meets I-80, continuing south of I-74 to the Mississippi River; and on the south: east from the east side of I-74 west along the Mississippi River to the west edge of I-280 where I-280 meets the river; and smaller surrounding cities in Scott County including Bettendorf, Bluegrass, Buffalo, Donahue, Eldridge, LeClaire, Long Grove, Maysville, and Walcott.
Woodbury | Entire County.
Hardin | Entire County.
Marshall | Entire County.
Poweshiek | Entire County.
Story | Entire County.
Tama | Entire County.
Kansas:
Atchinson | Entire County.
Brown | Entire County.
Doniphan | Entire County.
Jefferson | Entire County.
Leavenworth | Entire County.
Marshall | Entire County.
Nemaha | Entire County.
Pottawatomie | Entire County.
Jackson | Entire County, except the Prairie Band Pottawatomi Reservation.
| Prairie Band of Potawatomi Reservation and two communities adjacent to the reservation, Hoyt and Mayetta.
Cherokee | Entire County.
Crawford | Entire County.
Labette | Entire County.
Montgomery | Entire County.
Clay | Entire County.
Cloud | Entire County.
Washington | Entire County.
Dickerson | Entire County.
Ellsworth | Entire County.
Saline | Entire County.
Ford | Entire County.
Johnson | An area bounded on the west by Ogg Road; on the east by Stateline Road; on the north by County Line Road; and on the south by I-435.
Lyon | Entire County.
Riley | Entire County.
Rush | Entire County.
Russell | Entire County.
Ellis | Entire County.
Sedgwick | City of Wichita: an area bounded by Murdock Street on the north; 47th South Street on the south; Woodlawn Street on the east; and Main Street on the west.
Shawnee | Entire County.
Sumner | Entire County.
Wyandotte | Kansas City, an area bounded by Wyandotte/Douglas County Line on the west; the Wyandotte/Johnson county line on the south; and the Kansas/Missouri state line on the north and east.
Finney | Entire County.
Kentucky:
Bourbon | Entire County.
Fayette | Entire County.
Harrison | Entire County.
Nicholas | Entire County.
Scott | Entire County.
Breckinridge | Entire County.
Grayson | Entire County.
Calloway | Entire County.
Carlisle | Entire County.
Fulton | Entire County.
Marshall | Entire County.
Hickman | Entire County.
Ballard | Entire County.
Graves | The towns of Mayfield, Fancy Farm, Lowes, Sedalia, Symsonia and Wingo.
Warren | Bowling Green, Rockville, Albaton, Rich, Panel, Plano.
McCracken | Paducah, Concord, Farley, Heath, Hendron, Loneoak.
Christian | Hopkinsville.
Daviess | Owensburg.
Ohio | Entire County.
Lyon | Entire County.
Trigg | Entire County.
Harlan | Entire County.
Clay | Entire County.
Knox | Entire County.
Laurel | Entire County.
Jackson | Entire County.
Rockcastle | Entire County.
Jefferson | Entire County.
Knott | Hindman, West Caney.
Letcher | Jenkins, Fleming.
Lincoln | Entire County.
Owsley | Entire County.
Bullitt | Mt. Washington.
Henry | Eminence.
Casey | Entire County.
Cumberland | Entire County.
Green | Entire County.
Taylor | Entire County.
Bell | Communities of Pineville and Middlesboro.
Whitley | Communities of Williamsburg and Boston.
Louisiana:
East Baton Parish | City of Baton Rouge: an area starting at the Long Allen Bridge: east to Plank Road (Highway 67); north to Hooper (State Highway 408); northeast on Hooper Road to Greenwell Springs Road (State Highway 37); south and southwest on Greenwell Springs Road to Airline Highway; southeast on Airline Highway to Bayou Manchac; west on Bayou Manchac to the Mississippi River; north to the Long Allen Bridge.
Bossier Parish | Entire Parish.
Iberia Parish | Entire Parish.
Lafayette Parish | Entire Parish.
St. Martin Parish | Entire Parish.
Rapides Parish | Entire Parish.
St. Charles Parish | Entire Parish.
St. Helena Parish | Entire Parish.
St. Tammany Parish | The northern portion of Parish bordered on the north by the St. Tammany/Washington Parish Line; on the east by the Pearl River/Mississippi State Line; on the south by US Highway 190; and on the west by the St.Tammany-Tangipahoa Parish.
Tangipahoa Parish | Entire Parish.
Washington Parish | Entire Parish.
Livingston Parish | Entire Parish.
West Feliciana Parish | Entire Parish.
Orleans Parish | Entire Parish.
Caddo Parish | Entire Parish.
St. Landry Parish | Entire Parish.
Maine:
Andro-scoggin | City of Lewiston.
| Towns of Livermore, Livermore Falls.
Franklin | Entire County.
Cumberland | Entire County.
Northern Kennebec | Entire County.
Somerset | Entire County.
Oxford | Entire County.
York | City of Biddeford.
Penobscot | Greater Bangor.
Hancock | Greater Ellsworth.
Maryland:
Alleghany | Entire County.
Baltimore | City of Baltimore: The communities of Edmondson Village, Sandtown/Winchester, Reservoir Hill, Park Heights (upper and lower), WashingtonVillage/Pigtown, Mideast, Forest Heights, Mondawmin, Howard Park, Rosemount, Franklin Square, Poppletown, Penn/Druid/Uppertown, Green Mount East, Hopkins Middleast, Madison East End, Cherry Hill, Brooklyn/Curtis Bay, Claremount, Armstead, Beechfield/Irvington, Belair/Edison, Waverly, Govans, Hampden/Woodbury, and Barclay (entire city).
| City of Baltimore: An area bounded on the north by Monument Street; on the south by the Waterfront; on the east by the City Line; and on the west by Broadway Street.
Caroline | Entire County.
Anne Arundel | Southern Anne Arundel County, including the towns of Harwood, West River, Galesville, Lothian, Churchton, Deale, Shady Side and Traceys Landing.
Cecil | Entire County.
Dorchester | Entire County.
Garrett | Entire County.
Harford | Entire County.
Montgomery | Gaithersburg and Germantown.
| Rockville, Silver Spring, Wheaton, and Tacoma Park.
Prince George's | Hyattsville, Riverdale, Langley Park, Greenbelt, Adelphi, College Park, Glendarden, Capital Heights, and Landover.
Washington | Entire County.
Massachusetts:
Bristol | City of Fall River, and the Towns of Somerset, Swansea, Rehoboth, Dighton, Freetown, Berkley, Lakeville, and Seekonk.
| Towns of Raynham and Taunton.
Essex | Cities and towns of Lawrence, Methuen, Andover, and North Andover.
Franklin | Towns of Greenfield, Orange, and Turners Falls.
Hampden | Cities of Holyoke, Chicopee, and Springfield.
Middlesex | City of Somerville.
| City of Lowell.
Suffolk | City of Boston.
| City of Boston.
Worcester | Towns of Southbridge, Webster, Oxford, Millbury, Spencer.
Norfolk | Quincy, Braintree, Weymouth, and Milton.
Plymouth | Hull.
Middlesex | Arlington, Watertown, Waltham, Newton.
Norfolk | Brookline.
Michigan:
Alger | Entire County.
Marquette | Entire County.
Alpena | Entire County.
Bay | Entire County.
Iosco | Entire County.
Arenac | Entire County.
Cheboygan | Entire County.
Antrim | Entire County.
Benzie | Entire County.
Charlevoix | Entire County.
Emmet | Entire County.
Grand Traverse | Entire County.
Kalkaska | Entire County.
Leelanau | Entire County.
Missaukee | Entire County.
Roscommon | Entire County.
Wexford | Entire County.
Delta | Entire County.
Menominee | Entire County.
Schoolcraft | Entire County.
Baraga | Entire County.
Houghton | Entire County.
Keweenaw | Entire County.
Genesee | Carman-Ainsworth School District and Bendel School District.
| Eligible families enrolled in the Michigan Job Corp, Mott Community College, University of Michigan-Flint, and the Career Alliance Program (Sylvester Broome Training Center); Flint School District including service areas of Holmes and Whittier; and School Districts of Clio, Montrose, Mt. Morris, Genesee, Kearsley, West Wood Heights and Flushing.
Clare | Entire County.
Gladwin | Entire County.
Mecosta | Entire County.
Midland | Entire County.
Osceola | Entire County.
Chippewa | Entire County.
Luce | Entire County.
Mackinac | Entire County.
Ionia | Entire County.
Isabella | Entire County.
Gratiot | Entire County.
Montcalm | Entire County.
Gogebic | Entire County.
Ontonagon | Entire County.
Kent | (1) Within the City of Grand Rapids: an area bounded by 3 Mile Road to the north; East Beltline Ave (except East Grand Rapids) to the east; 28th Street to the south; and Byron Center Road/Covell Avenue/Walker Avenue to the west.
| (2) South of Grand Rapids: an area bounded by 28th Street to the north; Patterson Avenue to the east; 68th Street to the south; and Byron Center Avenue to the west.
Manistee | Entire County.
Lake | Entire County.
Newaygo | Entire County.
Mason | Entire County.
Huron | Entire County.
LaPeer | Entire County.
Sanilac | Entire County.
Tuscola | Entire County.
Ottawa | Towns of Ferrysburg, Grand Haven, Spring Lake, Crockery Township, Robinson Township; and Holland, West Olive, and Allendale communities.
Wayne | City of Detroit—neighborhoods bounded to the:
| (1) North by Woodland St.; to the east by Oakland St.; to the south by Warren Av.; and to the west by Byron St.
| (2) North by Fullerton St.; to the east by Byron St.; to the south by W. Grand Blvd.; and to the west by Holmur St.
| (3) North by Puritan St.; to the east by Thomas St.; to the south by Fullerton St.; and to the west by Meyers Rd.
| (4) North by 8 Mile Rd.; to the east by Southfield Fwy.; to the south by Puritan St.; and to the west by Five Points St.
| (5) North by Puritan St.; to the east by Southfield Fwy.; to the south by Fullerton St.; and to the west by Telegraph Rd.
Calhoun | Entire County.
St. Joseph | Entire County.
Barry | Entire County.
Mackinac | Entire County.
Luce | Entire County.
Delta | Entire County.
Schoolcraft | Entire County.
Marquette | Entire County.
Elger | Entire County.
Chippewa | Entire County.
| Bay Mills Reservation.
Baraga | Keweehaw Reservation.
Gogebic | Lac Vieux Desert Reservation.
Menominee | Hannahville Reservation.
Delta | Little Traverse Bay Band Reservation.
Emmet | Little Traverse Bay Band Reservation.
Charlevoix | Pokagom Reservation.
Otsego | Pokagom Reservation.
Cass | Pokagom Reservation.
Berrien | Entire County.
Van Buren | Entire County.
Ingham | City of Lansing, Lansing School District.
Hillsdale | City of Hillsdale, and north of US 12 to the Jackson County line.
Jackson | Entire County.
Leelanau | Grand Traverse Band Reservation.
Minnesota:
Anoka | Entire County.
Becker | Entire County.
Hubbard | Entire County.
Mahnomen | Entire County.
Beltrami | Entire County.
Cass | Entire County.
Crow Wing | Entire County.
Morrison | Entire County.
Todd | Entire County.
Kittson | Entire County.
Lake of the Woods | Entire County.
Marshall | Entire County.
Roseau | Entire County.
Ramsey | The following school districts: Moundview, Roseville, North St. Paul-Maplewood-Oak Dale, and White Bear Lake; City of St. Paul (excluding old Model Cities area) bounded by Interstate 35, Interstate 94 and Lafayette Road.
Benton | Entire County.
Sherburne | Entire County.
Stearns | Entire County.
Mille Lacs | Mille Lacs Reservation.
Hennepin | The following communities within the City of Minneapolis: Northeast, University, and Phillips
| Communities of: Camden, Central, Longfellow, Near North, Nokomis, Powderhorn and Southwest in the City of Minneapolis; the suburban communities of Brooklyn Park, Golden Valley, and Richfield.
Menhnomen | White Earth Reservation.
Becker | White Earth Reservation.
Hubbard | White Earth Reservation.
Cloquet | Fond du Lac Reservation.
Sawyer | Fond du Lac Reservation.
Brookston | Fond du Lac Reservation.
Arlton | Fond du Lac Reservation.
St. Louis | Fond du Lac Reservation.
Mississippi:
Calhoun | Entire County.
Lauderdale | Meridian.
Leflore | Greenwood.
Perry | Entire County.
Printiss | Entire County.
Warren | Vicksburg.
Harrison | Biloxi.
Hinds | Entire County.
Holmes | Lexington, Ebenezer, Bowling Green.
Jones | City of Laurel and Towns of Ellisville and Soso.
Copiah | Job Corps site—Crystal Springs.
Leake | Walnut Grove.
Newton | Entire County.
Monroe | Entire County.
Lee | Entire County, except Tupelo.
| Tupelo.
Lafayette | Oxford.
Grenada | Grenada City.
Marshall | Byhalia, Holly Springs.
Panola | Batesville.
Pontotoc | City of Pontotoc.
Tallahatchie | Glendoro.
Tate | Senatobia.
Tunica | City of Tunica.
Chickasaw | Houston.
Oktibbeha | Starkville.
Clay | West Point.
DeSota | Walls.
Lowndes | Columbus.
Noxubee | Macon.
Washington | Hollandale, Arcola, Tralake, Murphy.
Henry | Eminence.
Leake | Mississippi Band of Choctaw Indians Reservation: Community of Redwater.
Neshoba | Mississippi Band of Choctaw Indians Reservation: Communities of Pearl River, Boguechitto, and Tucker.
Adams | Entire County.
Stone | Entire County.
Pike | Entire County, except the City of McComb.
Pearl River | Entire County.
Missouri:
Adair | Entire County.
Knox | Entire County.
Barry | Entire County.
Christian | Entire County.
Dade | Entire County.
Dallas | Entire County.
Lawrence | Entire County.
Greene | City of Springfield—an area bounded on the north by I-44; on the south by Battlefield Road; on the east by Hwy 65; and on the west by Haseltine Road.
Polk | Entire County.
Stone | Entire County.
Taney | Entire County.
Webster | Entire County.
Bates | Entire County.
Cass | Entire County.
Henry | Entire County.
St. Clair | Entire County.
Buchanan | Entire County.
Cape Girardeau | Entire County.
Jackson | City of Kansas—an area bounded to the north by the Missouri River; to the west by State Line Road; to the south by 112th Street; to the east by Hillcrest Road.
Jasper | Entire County.
Newton | Entire County.
McDonald | Entire County.
Lincoln | Entire County.
Montgomery | Entire County.
St. Charles | Entire County.
Warren | Entire County.
Lafayette | Entire County.
Chariton | Entire County.
Saline | Entire County.
Ray | Entire County.
Johnson | Entire County.
Moniteau | Entire County.
Pettis | Entire County.
St. Louis | (1) St. Louis County—an area bounded on the north by the Missouri River; on the south by the Meramec River; on the east by Mississippi River, except for St. Louis City which borders St. Louis County on the following streets: Riverview, Goodfellow, Skinker-McCausland, River Des Peres and Carondelet; and on the west by Wild Horse Creek Road, Ossenfort Road, Boguett Road, and Fox Creek Road.
| (2) St. Louis City—an area bounded on the east by the Mississippi River; on the north, south and west, bordering St. Louis County on the following streets: Riverview, Goodfellow, Skinker-McCausland, River Des Peres, and Carondelet.
| (3) St. Louis City—an area bounded on the south by Forest Park Parkway and portions of Forest Park; on the west by Skinker Boulevard, Kienlen, Jennings Station Road; on the north by West Florissant Road; and on the east by Grand Boulevard.
| St. Louis City—an area bounded on the south by Meramec Street; on the west by Grand Avenue to Arsenal Avenue, Arsenal Avenue west to Kingshighway Blvd., north to Columbia Avenue west to Hampton, north to Highway 40 (64), west to Skinker Avenue, north to Forest Park Parkway; on the north by Forest Park Parkway to Grand Avenue, north to St. Louis Avenue, west to Clay Avenue, north to Natural Bridge, west to Clay Avenue, north to West Florissant to Adelaide, north to Highway 70; on the east by Highway 70 to Chouteau Avenue, Chouteau Avenue east to the river and the river south to Meramec.
Marion | Entire County.
Boone | Entire County.
Montana:
Beaverhead | Entire County.
Silver Bow | Entire County.
Lincoln | School District #4 boundary that includes the city of Libby.
Missoula | Entire County.
Yellowstone | City of Billings and School District #2 boundary that includes the City of Lockwood.
Glacier | Blackfeet Reservation.
Lake | Flathead Indian Reservation.
Hill | Rocky Boy's Indian Reservation.
| Entire County.
Blaine | Entire County.
Nebraska:
Adams | Entire County.
Clay | Entire County.
Franklin | Entire County.
Hall | Entire County.
Nuckolls | Entire County.
Webster | Entire County.
Box Butte | Entire County.
Dawes | Entire County.
Douglas | City of Omaha: an area bordered on the north by I-680; on the east by the Missouri River; on the south by Harrison Street (Sarpy County Line); and on the west by 72nd Street.
| City of Omaha: an area bordered on the north by I-680; on the east by Iowa State Line; on the south by Harrison Street (Sarpy County Line); and on the west by 72nd Street.
Gage | Entire County.
Saline | Entire County.
Brown | Entire County.
Colfax | Entire County.
Custer | Entire County.
Garfield | Entire County.
Greeley | Entire County.
Holt | Entire County.
Howard | Entire County.
Platte | Entire County.
Sherman | Entire County.
Valley | Entire County.
Lancaster | City of Lincoln.
Scotts Bluff | Entire County.
Sarpy | Entire County.
Nevada:
Clark | Las Vegas, North Las Vegas and Henderson.
Elko | Entire County.
Whitepine | Entire County.
Washoe | Cities of Reno and Sparks.
New Hampshire:
Belknap | Entire County.
Merrimack | City of Concord, Bossawen, Loudon, Penacook.
Hillsborough | City of Manchester.
Strafford | Entire County.
New Jersey:
Atlantic | Entire County.
Cape May | Entire County.
Camden | City of Camden.
Ocean | Lakewood Township.
Cumberland | Entire County.
Salem | Entire County.
Glouster | Entire County.
Essex | City of East Orange.
| Newark Central Ward, West Ward, North Ward (Verona Avenue to Orange Street and Lake Street to McCarter Highway), and Bakery Village.
| Cities of Montclair and Orange.
Hudson | Union City, North Bergen, West New York, Weehawken, Guttenberg, and Seacaucus.
Passaic | Upper Passaic County—West Milford, Wayne, Ringwood, Bloomingdale, Little Falls, Haledon, Pompton Lakes, Hawthorne, and Wanaque.
| Patterson, Prospect Park, and Clifton.
Sussex | Entire County.
Warren | Entire County.
Morris | Netcong, Dover, and Victory Gardens.
Mercer | City of Trenton.
Middlesex | Entire County.
New Mexico:
Bernalillo | Within Bernalillo County, areas bounded by:
| (1) Eastern boundary is the Sandia Mountains; south to Kirtland Air Force Base; west to Wyoming Blvd.; and north to Indian School.
| (2) Eastern boundary is Wyoming Blvd; south to Kirtland Air Force Base; west to Louisiana at San Pedro at Louisiana; and north to Copper.
| (3) Eastern boundary is the Sandia Mountains; south to Indian School; west to Eubank; and north to the Bernalillo County line.
| (4) Eastern boundary is Eubank; south to Indian School; west to San Mateo; south to Indian School at Montgomery; and north to the Bernalillo County line.
| (5) Eastern boundary is San Mateo; south to the I-40 Freeway at Candelaria; west to Rio Grande and Edith; and north to Ortega Road.
| (6) Eastern boundary is Rio Grande River; south to Bridge Street; west to 98th Street; and north to I-40.
| (7) Eastern boundary is 98th Street; south to 122nd Street at Valley Road; west to 122nd Street; and north to I-40.
| (8) Eastern boundary is Tapia to Joe Sanchez Road; south to Rio Bravo; west to Coors; and north to Arenal.
| (9) Eastern boundary is Girard; south to Airport Terminal Road; west to I-25; and north to Coal.
| (10) Eastern boundary is Val Verde; south to Gibson to Smith; west to Girard; and north to Silver.
| Within Bernalillo County, areas bounded by:
| (1) Eastern boundary is Louisiana and San Pedro; south to Kirtland AFB and the Sunport; west to Girard to Val Verde; and north to Central and Anderson.
| (2) Eastern boundary is Wyoming; south to Central and Coal; west to I-25; and north to I-40 and Indian School.
| (3) Eastern boundary is Eubank; south to Indian School; west to Wyoming; and north to Montgomery.
| (4) Eastern boundary is Edith; south to Ortego Road; west to Rio Grande River; and north to the Bernalillo County line.
| (5) Eastern boundary is Rio Grande River; south to I-40; west to Petroglyphs; north to the Bernalillo County line.
| (6) Eastern boundary is Coors Road; south to Blake Road; west to 98th Street; and north to Bridge Blvd.
| (7) Eastern boundary to Tapia; south to Arenal; west to Coors; and north to Bridge Blvd.
| (8) Eastern boundary is Rio Grande River; south to Rio Bravo; west to Tapia to Joe Sanchez; and north to Bridge Blvd.
| (9) Eastern boundary is I-25; south to Isleta Indian Reservation; west to Coors; and north to Rio Bravo.
| (10) Eastern boundary is I-25; south to Rio Bravo; west to Rio Grande; and north to Caldelaria.
Doña Ana | City of Las Cruces.
Lea | Hobbs and Lovington.
Sandoval | Bernalillo, Cuba, and Rio Rancho.
Santa Fe | Entire County.
Torrance | Entire County.
San Juan | Entire County except the Alamo Navajo Reservation. The Alamo Navajo Reservation.
Navajo Nation (also see AZ, CO & UT) | Navajo Reservation, Navajo School Board.
Cibola | Pueblo Laguna Reservation.
Dulce | Jicarilla Apache Reservation.
New York:
Bronx | Communities of:
| (1) University Heights.
| (2) Fordham.
| (3) Riverdale.
| (4) Morris Heights.
| (5) Highbridge.
| Mott Haven and surrounding areas of South Bronx.
| Districts 1, 2, 3, and 4.
| (1) 3rd Ave. and Courtland Ave. through E.161st Street; Grand Ave. through East Featherbed Lane; University Ave. through West 182nd Street; East 146th Street through 156th Street; West on St. Anns Ave. and Union Ave.
| (2) Fulton Ave. to Park Ave.
| (3) East 171st Street and Prospect Ave. through East 182nd.
| (4) East 183rd Street and East 187th St. to East Mosholu.
| (5) North on Longwood Ave. and Boston Rd and Jennings St.
| (6) Charlotte St. and White Plains Rd.
| (7) Sedwick Ave. and Goulden Ave. through West 242nd St.
| (8) West 183rd St. and Grand Concourse through Mosholu to Bruckner Blvd.
| (9) Mott Haven and Hunts Point (Community Board # 1 & 2).
| (10) Spuyten Duyvil (Community Board # 8); University Heights (Community Board # 7).
Manhattan | Mid-town Manhattan—Homeless Population.
| Washington Heights.
| An area bounded by 14th Street to the west; on the north by East of Broad Street and South of 14th Street and Lower East Side; East River across Delancey St. to Allen St., south on Allen St. to Pike St. to East River.
| An area bounded by 125 St. to 218 St, Riverside Drive to Harlem River, Edgecomb Ave, St Nicholas Ave; Washington Hgts: FDR Drive east, to Binery to the south.
| Lower Eastside, north of Broadway and south of 14th Street.
Kings | An area bounded by the Brooklyn Navy Yard on the north; Flatbush and Eastern Parkway on the south and west; and Ashland Place on the east.
| (1) Borough Park—Community Board 12.
| (2) Carnarsie—Community Boards 17 & 18.
| (3) Crown Heights—Community Boards 8 & 9.
Richmond | North Shore-Community Board 13.
Queens | Rockaway Peninsula.
| Northwestern Queens County area, Astoria and Jackson Heights.
Alleghany | Entire County.
Cattaraugus | Entire County.
Wyoming | Entire County.
Chautauqua | Entire County.
Chenango | Entire County.
Dutchess | Entire County.
Herkeimer | Cities of Herkeimer and Rome.
Oneida | City of Utica.
Monroe | City of Rochester.
Onondaga | City of Syracuse.
Rensselaer | Entire County.
Rockland | Village of New Square.
| The village of Haverstraw and outlying areas, the village of Nyak and outlying areas including Valley Cottage, Congeis, Piermont, and Sparkill.
Schenectady | City of Schenectady.
Orange | The Black Dirt Region of Goshen, Warwick, and Florida; and within the City of Middletown, an area bounded by West Main Street on the northwest, to Wickham Avenue on the northeast, south to Genung Street, and west to West Main Street.
Steuben | Entire County.
Yates | Entire County.
Sullivan | Entire County.
Wayne | Wolcott, Butler, Savannah, Huron, Rose Galen, Sodus, Lyons, Newark.
Westchester | Entire county, excluding the City of White Plains.
| City of White Plains.
Erie | City of Buffalo: Teen mothers and pregnant women attending the following high schools: Bennett, Lafayette, Grover Cleveland, Emmerson Vocational, South Park, Riverside, Seneca, Kensington, Alternative, City of Schools, Performing Arts, Buffalo Traditional, Hutch Technical, McKinley, Burgard, and City Honors.
Orleans | Entire County.
Genesee | Entire County.
Saratoga | Entire County.
Washington | Entire County.
Suffolk | Central Brookhaven, including Coram, Medford, North Bellport, Seldon, and Ridge.
Madison | Entire County.
Otsego | Entire County.
North Carolina:
Buncombe | Asheville City School District and Buncombe County School District; Districts of Emma, Woodfin and Johnstown.
| Entire County except Asheville City and Emma, Woodfin, and Johnstown.
Caswell | Entire County.
Guilford | Greensboro.
| Entire County outside of Greensboro.
Macon | Entire County.
McDowell | Entire County.
Orange | Entire County.
Pamlico | Entire County.
Carteret | Entire County.
Craven | Entire County.
Jones | Entire County.
Rowan | Entire County.
Davison | Entire County.
Montgomery | Entire County.
Moore | Entire County.
Stanley | Entire County.
Transylvania | Entire County.
Henderson | Entire County.
Union | Monroe.
Wayne | Entire County.
Cumberland | Fayeteville.
Rutherford | Entire County.
Swain | Entire County.
Jackson | Entire County.
North Dakota:
Barnes | Entire County.
Stutsman | Entire County.
Dickey | Entire County.
Eddy | Entire County.
Foster | Entire County.
Griggs | Entire County.
LaMoure | Entire County.
Logan | Entire County.
McIntosh | Entire County.
Benson | Spirit Lake Reservation.
| Entire County with the exception of the Spirit Lake Reservation boundary.
Ramsey | Entire County with the exception of the Spirit Lake Reservation boundary.
Wells | Entire County.
Ward | Minot Public School District #1 Boundary, which includes the Minot Air Force Base.
Sioux | Boundaries of Standing Rock Reservation.
Grant | Boundaries of Standing Rock Reservation.
Nelson | Entire County.
Steele | Entire County.
Traille | Entire County.
Grand Forks | Emerado, Larimore, Niagra, Northwood, Reynolds, Thompson, and rural portion of the county.
Cass | City of Fargo and West Fargo.
Ohio:
Adams | Entire County.
Brown | Entire County.
Clermont | Entire County.
Clark | Entire County.
Montgomery | City of Dayton.
Cuyahoga | City of Cleveland: Glenville, Hough, Detroit-Shoreway, Clark-Fulton, and City of East Cleveland.
Darke | Entire County.
Greene | Entire County.
Shelby | Entire County.
Miami | Entire County.
Hamilton | City of Cincinnati: Neighborhoods of Over-the-Rhine, Mount Auburn, Price Hill, West End, Bond Hill, Roselawn, Avondale, Millvale, and Walnut Hills, Westwood, Camp Washington, Evanston, and East End, South Commonville Fairmont, Fay Apartments/English Woods, Winton Hills, Lincoln Heights, Lockland, and Forest Park.
Lake | Entire County.
Lawrence | Entire County.
Lorain | Towns of Lorain, Elyria, Oberlin, Wellington, Columbia Station, and South Amherst.
Medina | Entire County.
Wayne | Entire County.
Morgan | Entire County.
Washington | Entire County.
Pike | Entire County.
Preble | Entire County.
Richland | Entire County.
Summit | City of Akron: Communities of North Akron, South Akron, West Akron, East Akron.
Guernsey | Entire County.
Monroe | Entire County.
Noble | Entire County.
Fairfield | Entire County.
Mahoning | Entire County.
Allen | Entire County.
Franklin | Linden-McKinley: a south Linden subdivision which is south of Morse Road, east of Interstate 71, north of East Fifth Avenue, and west of Conrail; Pincrest-Whitehall municipality which is south of East Fifth Avenue, east of James Road, north of Livingston Avenue, and west of Hamilton Road; St. Agnes which is the westside of Columbus bounded on the west by Outerbelt 270, east by the Scioto River, south by Clime Road and north by Interstate 70.
Oklahoma:
Choctaw | Entire County.
McCurtain | Entire County.
Pushmataha | Entire County.
Creek | Entire County.
Okmulgee | Entire County.
Tulsa | An area bounded on the west by the Creek County line; on the south by the Okmulgee County line; on the east by Hwy 75, from the Okmulgee County line north to 71st St., east to Peoria Avenue, and north to 15th St; and on the north by 15th Street to the Arkansas River to the Creek County line
| East Tulsa, Southwest Tulsa, and North Tulsa.
Mays | Entire County.
Rogers | Entire County.
Wagner | Entire County.
Oklahoma | Oklahoma City: an area bounded on the north by North 50th; on the east by Bryant Avenue; on the south by South 44th; and on the west by Meridian Avenue.
Green | Entire County.
Payne | Entire County.
Seminole | Entire County.
Cleveland | Entire County.
Logan | Entire County.
Potawatomi | Entire County.
| The Sac, Fox and Absentee Shawnee Districts of Potawatomi County.
| Potawatomi Reservation, extending north to the North Canadian River; south to the South Canadian River; west to the Indian Meridian Line; and east to the county line.
Seminole | Entire County.
Cherokee | Entire County.
Mayes | Entire County.
Craig | Entire County.
Oregon:
Hood River | Entire County (also serves Klickitat County in Washington State).
Wasco | Entire County.
Jackson | City of Medford and metropolitan area, and the Illinois Valley.
Josephine | Entire County.
Multnomah | City of Portland: an area bounded by N.E. Skidmore to the north; N.E. Tillamook to the south; 82nd Street to the east; and the Willamette River to the west.
| City of Portland: an area bounded by the Willamette River on the west; the Columbia River on the north; Holgate Blvd on the south; and N.E. 122nd Ave on the east (excluding the Enterprise Zone between N.E. Skidmore and N.E. Tillamook Streets).
| City of Portland: an area bounded by Holgate Ave on the north; the Multnomah County line to the south; SE 45th St. to the west; and 122nd Ave. to the east. After 122nd, the service area extends north to Burnside and out to S.E 162nd Avenue (Lents Junction).
| An area bounded by the Columbia River on the north; Multnomah County line on the east; 122nd Street on the west until Burnside Street, then moving east to 162nd Street, and south to the Clackamas County line.
Umatilla | The communities of Pendleton, Hermiston, Umatilla, and Stanfield.
Marrow | City of Boardman.
Washington | City of Hillsboro.
Jefferson | Warm Springs Indian Reservation.
Pennsylvania:
Allegheny | Hill District, Uptown, Upper Hill, Middle Hill, Lower Hill, South Oakland, North Oakland, Clairton, City of Clairton, West Mifflin, Wilson, Jefferson, Glassport, Elizabeth, Dravesburg, Sto-Rox, McKees Rocks Borough, Kennedy Township, Esplen, Neville Island, and Stowe Township.
| Bloomfield, East Hills, East Liberty, Friendship, Garfield, Homewood, Larimer, Lawrenceville, Lincoln-Lemington-Belmar, Morningside, Baldwin.
| City of Pittsburgh including: Allentown, Arlington, Arlington Heights, Beltzhoover, Beechview, Brookline, Banksville, Carrick, Duquesne Heights, Glen Hazel, Greenfield, Hays, Hazelwood, Lincoln Place, Knoxville, Mt. Washington, Mt. Oliver, Overlook, St Clair Village, South Side Flats, South Side Slopes; and the County communities: Aspenwall. Blawnox, Cheswick, East Deer, Etna, Fox Chapel, Frazer, Harmar, Indiana, Millvale, Oakmont, O'Hara, Shaler, Sharpsburg, Springdale Borough, Springdale Township, Verona, West Deer.
Beaver | Entire County.
Bedford | Entire County.
Bradford | Entire County.
Tioga | Entire County.
Butler | Entire County.
Centre | Entire County.
Clearfield | Entire County.
Fayette | Entire County.
Fulton | Entire County.
Huntingdon | Entire County.
Indiana | Entire County.
Lackawanna | Entire County.
Wayne | Entire County.
Pike | Entire County.
Susquehanna | Entire County.
Lehigh | Entire County.
Luzerne | Entire County.
Mercer | Entire County.
Snynder | Entire County.
Union | Entire County.
Mifflin | Entire County.
Philadelphia | City of Philadelphia—an area bounded by the Schuylkill River; north to Girard Avenue; west on Girard to Parkside Avenue; north on Parkside Avenue to Belmont Avenue; south on Belmont to Westminster Avenue; west on Wesminster to 50th Street; south on 50th Street to Spruce Street; east on Spruce to 45th Street; and south on 45th Street to the Schuylkill River.
| City of Philadelphia—an area bounded by Pine Street on the north; Broad Street on the east; Philadelphia Naval Base on the south; and Schuylkill River on the west.
| City of Philadelphia—North Central Philadelphia Empowerment Zone: 6th Street to 23rd Street, and from Montgomery Street to Poplar Street.
| City of Philadelphia—An area bounded on the north by Allegheny Avenue; on the south by Norris Street; on the east by 5th Street; and on the west by 17th Street, excluding the North Philadelphia Empowerment Zone area.
| City of Philadelphia—Frankford Area.
Venango | Entire County.
Washington | Entire County.
Greene | Entire County.
Westmoreland | Entire County.
Dauphin | City of Harrisburg.
Rhode Island:
Bristol | Bristol, Warren, and Barrington.
Newport | Entire County.
Providence | Town of East Providence.
| City of Cranston.
| City of Central Falls, South and Southwest Providence.
| Towns of Burrillville, Johnston, North Providence, Smithfield, North Smithfield, Glocester, Scituate, and Foster.
Kent | The City of Warwick and the towns of Coventry and West Warwick.
South Carolina:
Bamberg | Olar, Bamberg City, Denmark, Ehrhardt.
Charleston | West Ashley, downtown Charleston, and Charleston Nech area.
Greenville | City of Greenville: Communities of Nicholtown (including the Jesse Jackson Town Homes), Woodland-Pierce Homes, and Parker District (including Monaghan, San Souci).
Anderson | Honeapath.
Pickens | City of Pickens.
Greenville | Pleasant Valley.
Lancaster | Entire County.
Spartanburg | Entire County.
Sumter | City of Sumter: Sumter School District, Maysville, Dalzell, Wedgefield, Sahw Air Force Base, Pinewood, Rembert, within the eastern section of Sumter County.
Beauford | St. Helena.
Jasper | Robertville.
Greenwood | Greenwood City.
Saluda | Saluda City.
South Dakota:
Brookings | Entire County.
Codington | Entire County.
Hamlin | Entire County.
Lake | Entire County.
Minnehaha | Entire County.
Moody | Entire County.
McCook | Entire County.
Clark | Entire County.
Deuel | Entire County.
Grant | Entire County.
Kingsbury | Entire County.
Miner | Entire County.
Butte | Towns of Belle Fourche, Fruitdale, Newell, Nisland and Vale.
Harding | Towns of Buffalo and Reva.
Perkins | Towns of Bison and Lemmon.
Hughes | Entire County.
Hyde | Entire County.
Jones | Entire County.
Mellette | Entire County.
Stanley | Entire County.
Sully | Entire County.
Meade | Cities of Black Hawk and Sturgis.
Lawrence | Cities of Deadwood, Lead, Spearfish.
Custer | City of Custer.
Fall River | City of Hot Springs.
Haakon | City of Phillip.
Jackson | City of Kadoka.
Pennington | The cities of Box Elder, Ellsworth Air Force Base, Rapid Valley, Rapid City and a 15 mile radius.
| Rapid City and the communities of Box Elder and Rapid Valley within the incorporated limits of Rapid City.
Jackson | Pine Ridge Reservation.
Shannon | Pine Ridge Reservation.
Robert | Lake Traverse Reservation.
Day | Lake Traverse Reservation.
Marshall | Lake Traverse Reservation.
Clay | Entire County.
Lincoln | Entire County.
Turner | Entire County.
Union | Entire County.
Tennessee:
Anderson | Andersonville, Briceville, Claxton, Clinton, Dutch Valley, Fairview, Grand Oaks, Lake City, Norris, Norwood.
Carroll | Entire County.
Fayette | Entire County.
Lauderdale | Entire County.
Madison | Entire County.
Obion | Entire County.
Tipton | Entire County.
Bedford | Shelbyville city limits and 10 miles around Shelbyville.
Lawrence | Lawrenceburg city limits and 10 miles around Lawrenceburg.
Giles | Pulaski city limits and 10 miles around Pulaski.
Hamilton | Communities of Soddy—Daisy, Cedar Hill, and the Avondale area of the City of Chattanooga.
Knox | North Knoxville.
Loudon | Entire County.
Roane | Entire County.
Shelby | Frayse, North Memphis, South Memphis, Midtown, Vincent, Alabaster, Columbiana.
Weakley | Entire County.
Gibson | Entire County.
Henry | Entire County.
Williamson | Franklin.
Wilson | Lebanon.
Cannon | Woodbury.
Cheatham | Ashland City.
Robertson | Springfield.
Rutherford | Murfreesboro and Smyrna.
Summer | Gallatin.
Trousdale | Hartsville.
Morgan | Entire County.
Tazewell | Campbell, Hancock, Claiborne, Scott.
Texas:
Bexar | City of San Antonio—an area on the westside of San Antonio bounded by Woodlawn on the north; U.S. Highway 90 on the south; Interstate 35 on the east; and Callahan on the west.
| The communities of Fredericksburg II, Circle North, New Westwood, Terrell Plaza, Fort Sam and Mount Zion.
Brazos | Entire County.
Brooks | Entire County.
Jim Wells | Entire County.
Kleberg | Entire County.
Brown | Entire County.
Burnet | An area bounded to the east by the City of Tow; to the north by County Road 206; to the west by the City of Bertram; and to the south by Park Road off State Highway 281.
Williamson | School district boundaries of the cities of Taylor, Georgetown, and Leander as described as:
| (1) City of Taylor—an area bounded to the east by Morning Glory and Mariposa; to the north by State Highway 95 and the San Gabriel River; to the west by County Road 3349; and to the south by Janick Lane.
| (2) City of Georgetown—an area bounded to the east by San Gabriel River and State Highway 95; to the north by State Highway 195; to the west by County Road 241; and to the south by County Road 111.
| (3) City of Leander—an area bounded to the east by County Road 1431 and Sam Bass Road; to the north by State Highway 29; to the west by County Road 1431 West to City of Jonestown; and to the south by County Road 2222 and City Park Road.
Cameron | Entire County.
Willacy | Entire County.
Cochran | Entire County.
Garza | Entire County.
Collin | McKinney Independent School District.
Grayson | Entire County.
Rockwall | Entire County.
Dallas | The communities of:
| (1) Pleasant Grove—an area bounded by I-635 on the north and east; I-45 on the south; and I-30 on the west.
| (2) West Dallas—an area bounded by the Trinity River on the north; I-30 on the south; Jefferson Boulevard on the east; and Loop 12 on the west.
| (3) Irving—an area bounded by Walnut Hill Rd on the north; Hunter Ferrel St. on the south; Walton Walker (Loop 12) on the east; and Beltline Rd on the west.
| (4) North Oak Cliff—an area bounded by I-30 on the north; Camp Wisdom Road on the south; I-35 on the east; and Duncanville Road on the west.
El Paso | Rural communities of Fabens, San Elizario, Clint, Canitillo, and the following areas in the city limits of El Paso:
| (1) Socorro/Sparks—an area bounded by Horizon City on the north; I-10 on the south; Bufford Road on the east; and Avenue of the Americas on the south.
| (2) Northeast—an area bounded by New Mexico State line on the north; Montana Avenue on the south; Loop 375 on the east; and Patriot on the west.
| (3) Ysleta—an area bounded by I-10 on the north; Border Freeway on the south; Avenue of the Americas on the east; and Delta Drive on the west.
| (4) Central Area—an area bounded by Montana Avenue on the north; Mexico border on the south; Alameda Avenue on the east; and Paisano Avenue on the west.
| (5) Canutillo—an area bounded by Vinton Road to the north; Sunland Park to the south; I-10 on the east and the Rio Grande River on the west.
Fort Bend | Entire County.
Gray | Entire County.
Hutchinson | Entire County.
Randall | Entire County, except teen parents residing within Amarillo School District Boundaries.
| Teen parents residing within Amarillo School District Boundaries.
Potter | Entire County, except teen parents residing within Amarillo School District Boundaries.
| Teen parents residing within Amarillo School District Boundaries.
Harris | City of Houston: an area bordered by Tidwell on the north; Hardy and Maury on the east; Yale and Studewood on the west; and IH-10 on the south (also know as Fifth Ward).
| City of Humble: an area bordered on the north by Montgomery County line; on the east by the middle of Lake Houston; on the south by Beltway 8; and on the west by McKay Boulevard up to Spring Creek where it intersects the Montgomery County line.
| Communities of Galena Park and Jacinto City within the City of Houston: an area bordered on the north by the East Fork of the San Jacinto River; on the east by Liberty County; on the south by the north side of Indian Shores; and on the west to the middle of Lake Houston.
| Within Harris County:
| (1) Gulfton Area—an area bounded by Richmond Street on the north; S. Braeswood Street on the south; Newcastle on the east; and S. Gessner on the west;
| (2) Spring Branch—an area bounded by Highway 290 on the north; I-10 on the south; Wirt Road (Wirt to Kempwood, Kempwood to Bingle, Bingle to Highway 290) on the east; and Blalock/Campbell Road on the west.
| Within Harris County, an area bordered by:
| (1) Loop 610 on the north; Loop 610 West to North to East on the south; Hardy Road on the east; and Studewood Street on the west;
| (2) An area bounded by Tidwell Road on the north; Loop 610 on the south; Hardy Road on the east; and North Main Street on the west;
| (3) An area bounded by E. Mt. Houston Road; Lynnfield Road on the south; Hirsch Road on the East; and Hardy Road on the west.
Hays | Entire County.
Caldwell | Entire County.
Hood | Cities of Granbury, Cresson, Lipan, Paluxy, and Thorspring.
Erath | Entire County.
Palo Pinto | Entire County.
Lubbock | City of Lubbock: The Cherry Point neighborhood bordered by Loop 289 and East Municipal Drive on the north; East Broadway on the south; East Idalou Road on the east; and Yellowhouse Canyon on the west.
Mclennan | Eligible residents of an empowerment zone in the City of Waco identified as East Waco, and nearby north and south sections of the city.
Houston | Entire County.
Nacogdoches | Entire County.
Nueces | Entire County.
Scurry | Entire County.
Starr | Rio Grande City.
Duval | City of San Diego.
Jim Hogg | City of Hebronville.
Zapata | Zapata City.
Taylor | Abilene Independent School District boundaries.
Titus | Entire County.
Tom Green | Entire County.
Travis | Entire County.
Uvalde | Entire County.
Zavala | Entire County.
Brazoria | Entire County.
Nolan | Entire County.
Tarrant | Entire County.
Bowie | Entire County.
Utah:
Carbon | City of Price.
Grand | City of Moab.
San Juan | City of Blanding.
Davis | Davis County School District Boundary.
Utah: | Entire County.
Box Elder (also see Franklin County, Idaho) | Brightman City, Fielding, Garden City, Garland, Thatcher, and Tremonton.
Cache (also see Franklin County, Idaho) | College Ward, Hyde Park, Hyrum, Logan, Mendon, Millville, Nibley, North Logan, Richmond, River Heights, Smithfield, and Wellsville.
Navajo Nation (also see AZ, CO, & NM) | Navajo Reservation, Navajo School Board.
Washington (also see Colorado City in Mohave County, AZ) | St. George and Hurricane.
Vermont:
Caledonia | Entire County.
Essex | Entire County.
Orleans | Entire County.
Lamoille | Entire County.
Orange | Entire County.
Washington | Entire County.
Windham | Entire County.
Virginia:
Buchanan | Entire County.
Dickerson | Entire County.
Russell | Entire County.
Washington | Entire County.
Fairfax | Cities of Fairfax and Falls Church and South Fairfax County from I-495 to Prince William County.
City of Alexandria | City of Alexandria—Rt. 1 Corridor.
Isle of Wight | Entire County.
Southhampton | Entire County.
City of Franklin | Entire City.
City of Suffolk | Entire City.
York | Entire County.
James City County | Entire County.
City of Williamsburg | Entire City.
Arlington | Entire County.
Loudoun | Entire County.
Prince William | Entire County.
Roanoke | City of Roanoke.
Newport News | City of Newport News—from Jefferson Street east.
Wise | Entire County.
Orange | Entire County.
Washington:
Asotin (also see Nez Perce County, ID) | Entire County.
Chelan | Entire County.
Douglas | Entire County, except for Community of Bridgeport.
| Bridgeport.
Yakima | City of Yakima.
| Towns of Grandview, Sunnyside, Mabton, Granger, Toppenish and White Swan.
Clark | Entire County.
Ferry | Entire County.
Pend Oreille | Entire County.
Steven | Entire County.
Grant | Entire County.
Island | Entire County.
Skagit | Entire County.
San Juan | Entire County.
King | City of Seattle: Ballard and West Seattle—an area bounded on the east by Lake Washington; on the west by Puget Sound; on the north by 145th Street; on the southwest by Roxbury Street; on the southeast by Juniper Street (excluding the garden communities of Holly Park, Yesler Terrace, Rainier Vista and High Point).
| City of Seattle: Central District of Seattle bounded on the north by East Madison St and Lake Washington Blvd; on the south by Interstate 90; on the east by Lake Washington; and on the west by Rainier Avenue South, South Main Street, Interstate 5, James Street and 12th Avenue.
| City of Seattle: Yesler Terrace, Holly Park, High Point, and Rainier Vista Public Housing Districts.
| Communities of Kent, Renton, Auburn, Skyway, Tukwilla, Southeast King County, and Federal Way.
Walla Walla | The City of Walla Walla, Farm Labor Homes Community and College Place.
Kitsap | South Kitsap School District (Discovery High School), students who attend Olympic College, and City of Port Orchard.
| Cities of Bremerton, West Bremerton and Poulsbo.
| Port Madison Indian Reservation.
| Port Gamble S'Klallam Reservation.
Klickitat (also see Hood River and Wasco Counties, OR) | Entire County.
Pierce | School Districts: Clover Park; Bethel; Peninsula; the teen parents attending the Tacoma School District and the Woman's Correctional Center in Purdy, Washington.
Snohomish | City of Everett.
Spokane | The City of Spokane and surrounding metropolitan area; and students attending Community Colleges in the City of Spokane.
Whatcom | Entire County.
Jefferson | Entire County.
Clallam | Entire County.
West Virginia:
Brooke | Entire County.
Marshall | Entire County.
Wetzel | Entire County.
Cabel | Cities of Huntington and Barboursville.
Lincoln | Towns of Harts and Ranger.
Wayne | Towns of Crum and Fort Gay.
Marion | City of Fairmont.
Randolph | Entire County.
Tucker | Entire County.
Preston | Entire County.
Monongalia | Entire County.
Wyoming | Entire County.
Wisconsin:
Adams | Entire County.
Columbia | Entire County.
Dodge | Entire County.
Juneau | Entire County.
Sauk | Entire County.
Dane | Entire County.
Barron | Entire County.
Chippewa | Entire County.
Dunn | Entire County.
Grant | Entire County.
Richland | Entire County.
Kenosha | City of Kenosha—neighborhoods of Wilson Heights and Bain.
Brown | Entire County.
Manitowac | Entire County.
Forest | Entire County.
Oneida | Entire County.
Vilas | Entire County.
Pierce | Entire County.
Polk | Entire County.
Pepin | Entire County.
St. Croix | Entire County.
Milwaukee | City of Milwaukee—an area bounded on the north by Capital Drive; on the east by Hwy 43; on the south by Wisconsin Ave.; and on the west by Sherman.
Waukesha | Entire County.
Kesheua | Menominee Reservation.
Rock | Entire County.
Bayfield | Red Cliff Reservation.
Vilas | Lac du Flambeau Reservation.
Wyoming:
Big Horn | Entire County.
Hot Springs | Entire County.
Washakie | Entire County.
Converse | Entire County.
Goshen | Entire County.
Natrona | Entire County.
Niobrara | Entire County.
Platte | Entire County.
Fremont | Wind River Indian Reservation.
Campbell | Entire County.
Teton | Entire County.
Sublette | Entire County.
Laramie | Entire County.
District of Columbia | (1) In Ward One, an area bounded on the northeast by Spring Road; on the northwest by Piney Branch Parkway; on the east by Michigan Avenue to Florida Avenue; on the southeast by S Street; and on the west by Rock Creek.
| (1) In Ward Two an area bounded on the northeast by New Jersey, Florida Avenue and S Street; on the northwest by Florida Avenue; on the east by Florida Avenue and Southwest Freeway; on the southeast by the Anacostia River; and on the west by the Potomac River.
| (1) In Ward Four an area bounded on the northeast by Eastern Avenue; on the northwest by Western Avenue; on the southeast by Michigan Avenue; and on the southwest by Rock Creek.
| (2) In Ward Five an area bounded on the northeast by Eastern Avenue; on the northwest by South Dakota; on the southeast by the Anacostia River; on the southwest by Florida Avenue; and on the west by Harewood Road.
| Sections of Wards One, Two and Four, which includes the areas of Shepherd Park, Upper Cordoza, Adams Morgan, and Mount Pleasant.
Commonwealth of Puerto Rico:
Municipality of Carolina | Entire Municipality.
Municipality of Cayey | Entire Municipality.
Municipality of Cidra | Entire Municipality.
Municipality of Luquillo | Entire Municipality.
Municipality of Trujillo Alto | Entire Municipality.
Municipality of Humacao | Entire Municipality.
Municipality of Ceiba | Entire Municipality.
Municipality of Juncos | Entire Municipality.
Municipality of Loiza | Entire Municipality.
Municipality of Canovanas | Barrio Cuboy in Canovanas.
Municipality of Rio Grande | Entire Municipality.
Municipality of Naguabo | Entire Municipality.
Municipality of Toa Baja | Entire Municipality.
Municipality of Catano | Bajo Costo. Barrio Palmas in the Municipality of Catano.
Municipality of Coamo | Las Flores in the Municipality of Coamo.
Municipality of Vega Alta | Vega Alta (Muchauchal and Santa Ana).
Municipality of San Juan | Cantera in the Municipality of San Juan. Barrios: Hato Rey Norte and the sub-barrios of Puerto Nuevo, Nemesio R. Canales Public Housing Project.
Municipality of Ponce | Entire Municipality.
Municipality of Santa Isabel | Entire Municipality.
Municipality of Bayamon | Entire Municipality.
Municipality of Barceloneta | Entire Municipality.
Municipality of Guaynabo | Entire Municipality.
Municipality of Sabana Grande | Entire Municipality.
Municipality of Caguas | Entire Municipality.
Municipality of San Sebastian | Entire Municipality.
Municipality of Arecibo | Entire Municipality.
Virgin Islands: Island of St. Croix | St. Croix.

[FR Doc. 02-5948 Filed 3-13-02; 8:45 am]

BILLING CODE 4184-01-P